DEPARTMENT OF HOMELAND SECURITY

Coast Guard

[USCG-2006-26377]

Collection of Information Under Review by Office of Management and Budget: OMB Control Number 1625-0056

AGENCY: Coast Guard, DHS.

ACTION: Request for comments.

SUMMARY: In compliance with the Paperwork Reduction Act of 1995, the U.S. Coast Guard intends to submit an Information Collection Request (ICR) to the Office of Management and Budget (OMB) to request a revision for the following currently-approved collection of information: 1625-0056, Labeling Requirements in 33 CFR parts 181 and 183 and 46 CFR 25.10-3. Before submitting the ICR to OMB, the Coast Guard is inviting comments on them as described below.

DATES: Comments must reach the Coast Guard on or before January 30, 2007.

ADDRESSES: To make sure that your comments and related material do not enter the docket [USCG-2006-26377] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

A copy of the completed ICR is available through this docket on the Internet at http://dms.dot.gov, and also from Commandant (CG-611), U.S. Coast Guard Headquarters, room 10-1236 (Attn: Mr. Arthur Requina), 2100 2nd Street SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2006-26377], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing Comments and Documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

Title: Labeling Requirements in 33 CFR parts 181 and 183 and 46 CFR 25.10-3.

OMB Control Number: 1625-0056.

Summary: Title 46 U.S.C. 4310 gives the Coast Guard the authority to require manufacturers of recreational boats and certain items of associated equipment to comply with Coast Guard regulations. Parts 181 and 183 of 33 CFR, and 46 CFR 25.10-3 contain the regulations and safety standards authorized by the statutes which apply to manufacturers of recreational boats, uninspected commercial vessels and associated equipment. The regulations and safety standards contain information collections, which require boat and associated equipment manufacturers, importers and the boating public to apply for serial numbers and to display various labels evidencing compliance.

Need: The Coast Guard needs the information required by 33 CFR parts 181 and 183 and 46 CFR 25.10-3 displayed on the labels to identify the manufacturer of each recreational boat manufactured or imported; to provide the prospective owners/operators of certain recreational boats and uninspected commercial vessels information concerning safe loading and/or safe powering information; to alert the operators of recreational boats and uninspected commercial vessels with permanently installed gasoline engines about the need to ventilate the engine compartment before starting the engine; and to ensure that associated equipment used on recreational boats and uninspected commercial vessels meets applicable Coast Guard safety standards.

Respondents: Manufacturers of recreational boats and associated equipment.

Frequency: One time per boat.

Burden Estimate: The estimated burden has increased from 385,408 hours to 395,107 hours a year.

Dated: November 17, 2006.
R. T. Hewitt,
Rear Admiral, Assistant Commandant for Command, Control, Communications, Computers and Information Technology.

[FR Doc. E6-20356 Filed 11-30-06; 8:45 am]

BILLING CODE 4910-15-P